DEPARTMENT OF HOMELAND SECURITY

Citizenship and Immigration Services

[CIS No. 2282-03]

Introduction of Revised Form N-600 and New Form N-600K

AGENCY: U.S. Citizenship and Immigration Services, Department of Homeland Security.

ACTION: Notice.

SUMMARY: The U.S. Citizenship and Immigration Services (CIS) announces implementation of the revised Form N-600, Application for Certificate of Citizenship, and a new Form N-600K, Application for Citizenship and Issuance of Certificate under Section 322. These two forms have replaced the previous edition of Form N-600 as well as Form N-643, Application for Certificate of Citizenship on Behalf of an Adopted Child, and Form N-600/N-643 Supplement A, which have been withdrawn.

DATES: This notice is effective October 31, 2003.

FOR FURTHER INFORMATION CONTACT: Gerard Casale, Business Process and Reengineering Division, U.S. Citizenship and Immigration Services, 425 I Street, NW., Washington, DC 20536, telephone (202) 514-0788.

SUPPLEMENTARY INFORMATION:

Background

Public Law 106-395, the Child Citizenship Act of 2000, enacted on October 30, 2000, provides that foreign-born children residing in the United States who meet certain specified requirements acquire United States citizenship automatically. This process replaced prior laws that required such children to obtain citizenship through an application for naturalization. Public Law 107-273, enacted on November 2, 2002, prescribes procedures by which children born of or adopted by a United States citizen parent and residing abroad may be naturalized under section 322 of the Immigration and Nationality Act (Act), on the application of their U.S. citizen legal guardian or grandparent. Since these laws made important changes in eligibility requirements and procedures, it became necessary to amend the application forms by which qualified children may apply for naturalization or obtain documentary proof of U.S. citizenship.

To reflect these statutory changes the CIS revised Form N-600, and developed a new Form N-600K. The revision and the new form were approved for use by the Office of Management and Budget under the Paperwork Reduction Act.

The revised Form N-600 and new Form N-600K have replaced the previous Application for Certificate of Citizenship on Behalf of an Adopted Child, Form N-643, as well as Form N-600/N-643 Supplement A, Application for Transmission of Citizenship Through a Grandparent.

Accordingly, this notice advises the public that only the current Form N-600 bearing the edition date of November 15, 2002 or later, is the correct form on which to apply for a Certificate of Citizenship. In addition, the new Form N-600K, bearing an edition date of April 30, 2003 or later, is the only correct form on which to apply for naturalization benefits for a child under section 322 of the Act.

As of October 31, 2003, only the November 15, 2002 or subsequent editions of Form N-600 will be valid for the purpose of filing an application for a certificate of citizenship, and only the April 30, 2003, or subsequent editions of Form N-600K will be valid for the purpose of filing an application for a certificate of citizenship under section 322 of the Act.

Correction of Stated Filing Fee

The current printed editions of Form N-600 and Form N-600K bear revision dates of November 15, 2002 and April 30, 2003, respectively. The instructions on these forms display a fee amount of $195.00 for a Form N-600 or Form N-600K filed on behalf of anyone except an adopted child, and $155.00 if filed on behalf of an adopted child. Those amounts were based on a fee adjustment rulemaking pending at the time the revisions were made. Clearance of the anticipated fee adjustment rulemaking has been delayed and, as a result, until further notice, CIS has adjusted the filing fees to be as follows. For a Form N-600 or Form N-600K filed on behalf of anyone except an adopted child, the correct fee is $185.00. For a Form N-600 or Form N-600K filed on behalf of an adopted child, the correct fee is $145.00.

Grace Period for Filing Previous Editions of Applications for a Certificate of Citizenship

Form N-600 applications bearing the earlier edition date that are mailed, postmarked or otherwise filed on or before October 31, 2003 will be accepted for the purpose of establishing a filing date for a certificate of citizenship. However, any applicants who are subject to the amended eligibility requirements of the current laws may be required to complete and submit either additional information or a valid current Form N-600 or N-600K without additional fee, as appropriate, in order to complete the processing of their application. After October 31, 2003 no Form N-600 application bearing an edition date earlier than November 15, 2002, will be accepted for processing by CIS.

Form N-643 applications that are mailed, postmarked or otherwise filed on or before October 31, 2003 will be accepted for the purpose of establishing a filing date for a certificate, if the applicant continues to be eligible under the current law. Any applicants who are subject to the amended eligibility requirements of the current laws may be required to complete and submit either additional information or a valid Form N-600 or N-600K without additional fee, as appropriate, in order to complete the processing of their application. After October 31, 2003 no Form N-643 will be accepted for filing at CIS Field Offices.

Beginning October 31, 2003, any outdated editions of the Form N-600 application and any Form N-643 received by the CIS will be returned to the applicant with instructions to submit a current application form.

How Can Applicants Obtain the Current Edition of Form N-600 or Form N-600K?

Applicants can obtain copies of the current Form N-600 or N-600K by calling the CIS Forms Line at 1-800-870-3676. The current edition of Form N-600 or N-600K also can be viewed and printed electronically from the CIS Web site at http://www.bcis.gov.

Dated: September 15, 2003.
Eduardo Aguirre,
Director, U.S. Citizenship and Immigration Services.

[FR Doc. 03-24803 Filed 9-30-03; 8:45 am]

BILLING CODE 4410-10-P